SECURITIES AND EXCHANGE COMMISSION

[File No. 1-12282 Correction]

Issuer Delisting; Notice of Application of Corrpro Companies, Inc. To Withdraw Its Common Stock, No Par Value, From Listing and Registration on the American Stock Exchange LLC

July 26, 2005.

On June 29, 2005, Corrpro Companies, Inc., an Ohio corporation (“Issuer”), filed an application with the Securities and Exchange Commission (“Commission”), pursuant to Section 12(d) of the Securities Exchange Act of 1934 (“Act”) ¹ and Rule 12d2-2(d) thereunder,² to withdraw its common stock, no par value (“Security”), from listing and registration on the American Stock Exchange LLC (“Amex”). On July 21, 2005, the Commission issued a “Notice of Application of Corrpro Companies, Inc. to Withdraw its Common Stock, no par value, from Listing and Registration on the American Stock Exchange LLC (“Notice”)”.

¹ 15 U.S.C. 78l(d).

² 17 CFR 240.12d2-2(d).

Page one, paragraph two of the Notice states that, “On April 14, 2005, the Board of Directors (“Board”) of the Issuer approved resolutions to withdraw the Security from listing and registration on Amex.” The correct date is June 27, 2005.

For the Commission, by the Division of Market Regulation, pursuant to delegated authority.³
³ 17 CFR 200.30-3(a)(1).
Jonathan G. Katz,
Secretary.

[FR Doc. E5-4094 Filed 8-1-05; 8:45 am]

BILLING CODE 8010-01-P